DEPARTMENT OF AGRICULTURE

Forest Service

Okanogan and Wenatchee National Forests Resource Advisory Committee

AGENCY: Forest Service, USDA.

ACTION: Notice of alternate meeting date.

SUMMARY: An alternate date of June 24 is being proposed for the Okanogan and Wenatchee National Forests Resource Advisory Committee meeting that is scheduled for July 2, 2003. If a quorum is not available for the July 2, 2003 meeting, then this alternate meeting will need to take place. The alternate meeting would be held at the Chelan County Rural Fire District #1 office located at 206 Easy Street, Wenatchee, Washington. The meeting would begin at 9 a.m. and continue until 3 p.m. Committee members would vote on Kittitas County Project selection, and review and select Chelan County projects proposed for Resource Advisory Committee consideration under Title II of the Secure Rural Schools and Community Self-Determination Act of 2000. All Okanogan and Wenatchee National Forests Resource Advisory Committee meetings are open to the public. Interested citizens are welcome to attend. To verify meeting status please call 509-662-4335.

FOR FURTHER INFORMATION CONTACT: Direct questions regarding this meeting to Paul Hart, Designated Federal Official, USDA, Wenatchee National Forest, 215 Melody Lane, Wenatchee, Washington 98801, 509-662-4335.

Dated: June 5, 2003.
Darrel L. Kenops,
Forest Supervisor, Okanogan and Wenatchee National Forests.

[FR Doc. 03-14846 Filed 6-11-03; 8:45 am]

BILLING CODE 3410-11-M